DEPARTMENT OF THE INTERIOR

Bureau of Land Management

[LLWO320000 L13100000 PP0000 LXSIOSHL0000]

Renewal of Approved Information Collection, OMB Control Number 1004-0201

AGENCY: Bureau of Land Management, Interior.

ACTION: 60-day notice and request for comments.

SUMMARY: In accordance with the Paperwork Reduction Act of 1995, the Bureau of Land Management (BLM) announces its intention to request that the Office of Management and Budget (OMB) renew OMB Control Number 1004-0201 for the paperwork requirements in 43 CFR parts 3900, 3910, 3920, and 3930, which pertain to management of oil shale.

DATES: Please submit your comments to the BLM at one of the addresses below on or before September 26, 2011.

ADDRESSES: Comments may be submitted by mail, fax, or electronic mail.

Mail: U.S. Department of the Interior, Bureau of Land Management, 1849 C Street, NW., Room 2134LM, Attention: Jean Sonneman, Washington, DC 20240.

Fax: to Jean Sonneman at 202-912-7181.

Electronic mail: Jean_Sonneman@blm.gov.

Please indicate “Attn: 1004-0201” regardless of the form of your comments.

FOR FURTHER INFORMATION CONTACT: Vince Vogt at 202-912-7125. Persons who use a telecommunication device for the deaf (TDD) may call the Federal Information Relay Service (FIRS) at 1-800-877-8339, to contact Mr. Vogt.

SUPPLEMENTARY INFORMATION: OMB regulations at 5 CFR part 1320, which implement provisions of the Paperwork Reduction Act (44 U.S.C. 3501-3521), require that interested members of the public and affected agencies be provided an opportunity to comment on information collection and recordkeeping activities (see 5 CFR 1320.8(d) and 1320.12(a)). The Paperwork Reduction Act provides that an agency may not conduct or sponsor a collection of information unless it displays a currently valid OMB control number. Until OMB approves a collection of information, you are not obligated to respond.

This notice identifies information collections that are contained in 43 CFR Parts 3900, 3910, 3920, and 3930. The BLM will request that the OMB renew its approval of this information collection activity for a 3-year term. Comments are invited on: (1) The need for the collection of information for the performance of the functions of the agency; (2) the accuracy of the agency's burden estimates; (3) ways to enhance the quality, utility, and clarity of the information collection; and (4) ways to minimize the information collection burden on respondents, such as use of automated means of collection of the information. A summary of the public comments will accompany the BLM's submission of the information collection requests to OMB.

All comments will become a matter of public record. Before including your address, phone number, e-mail address, or other personal identifying information in your comment, you should be aware that your entire comment—including your personal identifying information—may be made publicly available at any time. While you can ask us in your comment to withhold your personal identifying information from public review, we cannot guarantee that we will be able to do so.

The following information is provided for the information collection:

Title: Oil Shale Management (43 CFR Parts 3900, 3910, 3920, and 3930).

Form: Under 43 CFR 3904.12, bonds must be filed on an approved BLM form. However, the BLM has not yet developed the form because this information collection has not yet been activated.

OMB Control Number: 1004-0201.

Abstract: Section 369 of the Energy Policy Act (codified at 42 U.S.C. 15927 and amendments to 30 U.S.C. 241) authorizes the BLM to collect information from applicants for oil shale leases, oil shale lessees, and operators. This collection enables the BLM to:

(1) Learn the extent and qualities of the public oil shale resource;

(2) Evaluate the environmental impacts of oil shale leasing and development;

(3) Determine the qualifications of prospective lessees to acquire and hold Federal oil shale leases;

(4) Administer statutes applicable to oil shale mining, production, resource recovery and protection, operations under oil shale leases, and exploration under leases and licenses;

(5) Ensure lessee compliance with applicable statutes, regulations, and lease terms and conditions; and

(6) Ensure that accurate records are kept of all Federal oil shale produced.

Frequency: On occasion.

Description of Respondents: Applicants for oil shale leases, oil shale lessees, and operators.

Estimated Reporting and Recordkeeping “Hour” Burden: 24 responses and 1801 hours annually. The following table details the individual components and respective hour burdens of this information collection request:

Type of response | Number of responses | Hours per response | Total time (B × C)
A. | B. | C. | D.
Application for waiver, suspension, or reduction of rental or payment in lieu of production; application for reduction in rate of royalty; or application for waiver of royalty 43 CFR 3903.54(b)) | 1 | 40 | 40
Bonding requirements 43 CFR subpart 3904 Form 3904.12 | 1 | 1 | 1
Individual lease, exploration license, and reclamation bonds § 3904.14(c)(1)) | 1 | 1 | 1
Application for an exploration license, § 3910.31(a) through (e) | 1 | 24 | 24
Notice seeking participation in an exploration license, § 43 CFR 3910.31(f) | 1 | 1 | 1
Collection and submission of data obtained under an exploration license, § 3910.44 | 1 | 8 | 8
Response to call for expression of leasing interest, § 3921.30 | 1 | 4 | 4
Application for a lease—Individuals, §§ 3902.23, 3922.20, and 3922.30 | 1 | 300 | 300
Application for a lease—Associations, §§ 3902.24, 3922.20, and 3922.30 | 1 | 300 | 300
Application for a lease—Corporations, §§ 3902.25, 3922.20, and 3922.30 | 1 | 300 | 300
Sealed bid, § 3924.10 | 1 | 8 | 8
Application to convert research, development, and demonstration lease to commercial lease, § 3926.10(c) | 1 | 308 | 308
Drill and geophysical logs § 3930.11(b) | 1 | 19 | 19
New geologic information, § 3930.20(b) | 1 | 19 | 19
Plan of development, § 3931.11 | 1 | 308 | 308
Application for suspension of lease operations and production, § 3931.30 | 1 | 24 | 24
Exploration plan, § 3931.41 | 1 | 24 | 24
Modification of approved exploration plan or plan of development, § 3931.50 | 1 | 24 | 24
Production maps and production reports, § 3931.70 | 1 | 16 | 16
Records of core or test holes, § 3931.80 | 1 | 16 | 16
Application for modification of lease size, §§ 3932.10(b) and 3932.30(c) | 1 | 12 | 12
Assignment or sublease, § 3933.31 | 1 | 10 | 10
Relinquishment § 3934.10 | 1 | 18 | 18
Production and sale records, § 3935.10 | 1 | 16 | 16
Totals | 24 |  | 1801

Estimated Reporting and Recordkeeping “Non-Hour Cost” Burden: Fixed fees in the amount of $355 and case-by-case cost-recovery fees in the amount of $526,177.

Jean Sonneman,
Bureau of Land Management, Information Collection Clearance Officer.

[FR Doc. 2011-18840 Filed 7-25-11; 8:45 am]

BILLING CODE 4310-84-P